DEPARTMENT OF TRANSPORTATION

Federal Aviation Administration

14 CFR Part 39

[Docket No. FAA-2017-0902; Product Identifier 2016-NM-188-AD]

RIN 2120-AA64

Airworthiness Directives; Airbus Airplanes

AGENCY: Federal Aviation Administration (FAA), DOT.

ACTION: Notice of proposed rulemaking (NPRM).

SUMMARY: We propose to supersede Airworthiness Directive (AD) 2004-03-07, which applies to certain Airbus Model A320-111, -211, -212, and -231 series airplanes. AD 2004-03-07 requires repetitive inspections for fatigue cracking around the fasteners attaching the pressure panel to the flexible bracket at frame (FR) 36, adjacent to the longitudinal beams on the left and right sides of the airplane; and repair as necessary. Since we issued AD 2004-03-07, additional cracking has been found under the longitudinal beams in locations outside of the inspection areas required by AD 2004-03-07. This proposed AD would retain certain requirements of AD 2004-03-07, expand the applicability, and require an inspection of the fastener holes on the pressure panel between FR 35 and FR 36 under the longitudinal beam and modification or repair as applicable. We are proposing this AD to address the unsafe condition on these products.

DATES: We must receive comments on this proposed AD by November 20, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this referenced service information at the FAA, Transport Standards Branch, 1601 Lind Avenue SW., Renton, WA. For information on the availability of this material at the FAA, call 425-227-1221.

Examining the AD Docket

You may examine the AD docket on the Internet at http://www.regulations.gov by searching for and locating Docket No. FAA-2017-0902; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Section, Transport Standards Branch, FAA, 1601 Lind Avenue SW., Renton, WA 98057-3356; telephone 425-227-1405; fax 425-227-1149.

SUPPLEMENTARY INFORMATION:

Comments Invited

We invite you to send any written relevant data, views, or arguments about this proposal. Send your comments to an address listed under the ADDRESSES section. Include “Docket No. FAA-2017-0902; Product Identifier 2016-NM-188-AD at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 29, 2004, we issued AD 2004-03-07, Amendment 39-13451 (69 FR 5907, February 9, 2004) (“AD 2004-03-07”), for certain Airbus Model A320-111, -211, -212, and -231 series airplanes. AD 2004-03-07 was prompted by fatigue tests which revealed cracking around the fasteners attaching the pressure panel to the flexible bracket at FR 36, adjacent to the longitudinal beams on the left and right sides of the airplane. Investigation revealed that the damage was caused by high loads in this area. AD 2004-03-07 requires repetitive inspections for fatigue cracking around the fasteners attaching the pressure panel to the flexible bracket at FR 36, adjacent to the longitudinal beams on the left and right sides of the airplane; and repair as necessary. AD 2004-03-07 also provides an optional terminating action for the repetitive inspections. We issued AD 2004-03-07 to detect and correct fatigue cracking around the fasteners attaching the pressure panel to the flexible bracket at the FR 36 adjacent to the longitudinal beams, which could result in reduced structural integrity and possible rapid decompression of the airplane.

Since we issued AD 2004-03-07, additional cracks have been found under the longitudinal beams at locations that are not included in the inspection area required by AD 2004-03-07. Fatigue and damage tolerance analyses were performed and the results indicated that all the holes in the pressure panel above the longitudinal beams have to be cold worked.

The European Aviation Safety Agency (EASA), which is the Technical Agent for the Member States of the European Union, has issued EASA Airworthiness Directive 2016-0206, dated October 13, 2016; corrected October 14, 2016 (referred to after this as the Mandatory Continuing Airworthiness Information, or “the MCAI”), to correct an unsafe condition for certain Airbus Model A318 and Model A319 series airplanes, Model A320-211, -212, -214, -231, -232, and -233 airplanes, and Model A321-111, -112, -131, -211, -212, -213, -231, and -232 airplanes. The MCAI states:

During fatigue tests, cracks were found around the fasteners connecting the pressure panel with the flexible bracket at fuselage frame (FR) 36, adjacent to the longitudinal beams on left-hand (LH) and right-hand (RH) sides.

This condition, if not detected and corrected, could impair the structural integrity of the aeroplane.

To address this unsafe condition, DGAC [Direction Générale de l'Aviation Civile] France issued [French] AD 2000-531-155(B) [which corresponds with FAA AD 2004-03-07] to require repetitive inspections of the longitudinal beams of the FR 36 pressure panel and, depending on findings, the accomplishment of a repair.

Since that [French] AD was issued, additional cracks have been found under the beams, but in locations not covered by the required inspections. Fatigue and damage tolerance analyses were performed, the results of which indicated that all the holes in the pressure panel above all the longitudinal beams have to be cold worked.

For the reasons described above, this [EASA] AD retains the requirements of DGAC France AD 2000-531-155(B), which is superseded, extends the applicability to all A320 family aeroplanes and requires [a special detailed inspection of the fastener holes on the pressure panel between FR35 and FR36 under the longitudinal beam and] modification [or repair] of all the affected holes.

This [EASA] AD is republished to correct the number of the superseded DGAC AD.

You may examine the MCAI in the AD docket on the Internet at http://www.regulations.gov by searching for and locating Docket No. FAA-2017-0902.

Related Service Information Under 1 CFR Part 51

Airbus has issued Service Bulletin A320-53-1264, Revision 01, dated July 4, 2016. The service information describes procedures for a special detailed inspection (rotating probe) for cracking of the fastener holes on the pressure panel between FR 35 and FR 36 under the longitudinal beam and repair of any crack.

Airbus has also issued Service Bulletin A320-53-1240, Revision 01, dated April 4, 2016, which describes procedures for modifying the pressure panel above the left and right longitudinal beams, including related investigative action (e.g., high frequency eddy current (rototest) inspection of all the removed fastener holes) and corrective actions (e.g., repair), by cold working the attachment holes under the longitudinal beam at FR 36 for airplanes on which no cracking was found.

In addition, Airbus issued Service Bulletin A320-53-1263, Revision 01, dated February 29, 2016, which describes procedures for modifying the pressure panel above the left and right longitudinal beams, including related investigative actions (e.g., eddy current rotating probe inspection of the fastener holes) and corrective actions (e.g., repair), by adding a doubler and a filler, and cold expansion of the holes under the longitudinal beam at FR 36 for airplanes on which cracking was found.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Differences Between This Proposed AD and the MCAI or Service Information

The MCAI specifies that operators can calculate revised thresholds for Model A319 and A320 series airplanes with sharklets installed (Airbus Service Bulletin A320-57-1193). This proposed AD does not include those calculations because the calculations could result in different inspection thresholds for each individual airplane. However, under the provisions of paragraph (o)(1) of this AD, we will consider requests for approval of alternative compliance times.

Costs of Compliance

We estimate that this proposed AD affects 737 airplanes of U.S. registry.

We estimate the following costs to comply with this proposed AD:

Estimated Costs
Action | Labor cost | Parts cost | Cost per product | Cost on U.S. operators
Inspection [Retained from AD 2004-03-07] | Up to 2 work-hours × $85 per hour = $170 per inspection cycle | $0 | Up to $170 per inspection cycle | Up to $125,290 per inspection cycle.
Inspection [new proposed requirement] | 13 work-hours × $85 per hour = $1,105 | 0 | $1,105 | $814,385.

We estimate the following costs to do any necessary modifications that would be required based on the results of the proposed inspection. We have no way of determining the number of aircraft that might need these modifications:

On-Condition Costs
Action | Labor cost | Parts cost | Cost per product
Modification | Up to 213 work-hours × $85 per hour = $18,105 | Up to $8,510 | Up to $26,615.
Reporting | 1 work-hour × $85 per hour = $85 | $0 | $85.

We have received no definitive data that would enable us to provide a cost estimate for the on-condition repairs specified in the service information.

Paperwork Reduction Act

A federal agency may not conduct or sponsor, and a person is not required to respond to, nor shall a person be subject to penalty for failure to comply with a collection of information subject to the requirements of the Paperwork Reduction Act unless that collection of information displays a current valid OMB control number. The control number for the collection of information required by this NPRM is 2120-0056. The paperwork cost associated with this NPRM has been detailed in the Costs of Compliance section of this document and includes time for reviewing instructions, as well as completing and reviewing the collection of information. Therefore, all reporting associated with this NPRM is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2004-03-07, Amendment 39-13451 (69 FR 5907, February 9, 2004), and adding the following new AD:

Airbus: Docket No. FAA-2017-0902; Product Identifier 2016-NM-188-AD.

(a) Comments Due Date

We must receive comments by November 20, 2017.

(b) Affected ADs

This AD replaces AD 2004-03-07, Amendment 39-13451 (69 FR 5907, February 9, 2004) (“AD 2004-03-07”).

(c) Applicability

This AD applies to the Airbus airplanes identified in paragraphs (c)(1) through (c)(4) of this AD, certificated in any category, except for airplanes on which Airbus Modification 151574 was embodied in production.

(1) Model A318-111, -112, -121, and -122 airplanes.

(2) Model A319-111, -112, -113, -114, -115, -131, -132, and -133 airplanes.

(3) Model A320-211, -212, -214, -231, -232, and -233 airplanes.

(4) Model A321-111, -112, -131, -211, -212, -213, -231, and -232 airplanes.

(d) Subject

Air Transport Association (ATA) of America Code 53, Fuselage.

(e) Reason

This AD was prompted by fatigue tests which revealed cracking around the fasteners attaching the pressure panel to the flexible bracket at frame (FR) 36, adjacent to the longitudinal beams on the left and right sides of the airplane. We are issuing this AD to detect and correct fatigue cracking around the fasteners attaching the pressure panel to the flexible bracket at the FR 36 adjacent to the longitudinal beams, which could result in reduced structural integrity of the airplane and possible rapid decompression of the airplane.

(f) Compliance

Comply with this AD within the compliance times specified, unless already done.

(g) Retained Inspection and Follow-On Actions, With No Changes

This paragraph restates the requirements of paragraphs (a) and (b) of AD 2004-03-07, with no changes.

(1) For Model A320-211, -212, and -231 series airplanes having serial numbers 0002 through 0107 inclusive, except those airplanes on which Airbus Modification 21202/K1432 has been incorporated in production, or on which Airbus Service Bulletin A320-53-1029, Revision 01, dated April 29, 2002, has been incorporated: Prior to the accumulation of 30,000 total flight cycles, do a rotating probe inspection on airplanes with a center fuel tank, or a detailed inspection on airplanes without a center fuel tank, to detect cracking around the fasteners that attach the pressure panel to the flexible bracket at FR 36, adjacent to the longitudinal beams on the left and right sides of the airplane, in accordance with the Accomplishment Instructions of Airbus Service Bulletin A320-53-1030, Revision 01, dated May 21, 2002.

(2) If no crack is detected by the inspection required by paragraph (g)(1) of this AD, repeat the applicable inspection thereafter at intervals not to exceed 6,000 flight cycles for airplanes without a center fuel tank, and at intervals not to exceed 18,000 flight cycles for airplanes with a center fuel tank.

(h) Retained Corrective Actions, With Specific Delegation Approval Language

This paragraph restates the requirements of paragraphs (c) and (d) of AD 2004-03-07, with specific delegation approval language.

(1) If any crack is detected during any inspection required by paragraph (g)(1) of this AD, before further flight, repair the affected structure by accomplishing all applicable actions in accordance with paragraphs 3.B. through 3.E. of the Accomplishment Instructions of Airbus Service Bulletin A320-53-1030, Revision 01, dated May 21, 2002. Repeat the applicable inspection thereafter at intervals not to exceed 6,000 flight cycles for airplanes without a center fuel tank, and at intervals not to exceed 18,000 flight cycles for airplanes with a center fuel tank. For any area where cracking is repaired, the repair constitutes terminating action for the repetitive inspection of that area.

Note 1 to paragraph (h)(1) of this AD: Airbus Service Bulletin A320-53-1030 references Airbus Service Bulletin A320-53-1029, Revision 01, dated April 29, 2002, as an additional source of service information for certain repairs.

(2) If Airbus Service Bulletin A320-53-1030, Revision 01, dated May 21, 2002, specifies to contact the manufacturer for appropriate action: Before further flight, repair using a method approved in accordance with the procedures specified in paragraph (o)(2) of this AD.

(i) Retained Optional Terminating Action for Paragraphs (g) and (h) of This AD, With Revised Compliance Language

This paragraph restates the requirements of paragraph (e) of AD 2004-03-07, with revised compliance language. For Model A320-211, -212, and -231 series airplanes having serial numbers 0002 through 0107 inclusive, except those airplanes on which Airbus Modification 21202/K1432 has been incorporated in production, or Airbus Service Bulletin A320-53-1029, Revision 01, dated April 29, 2002: Modification, before the effective date of this AD, of the structure around the fasteners that attach the pressure panel to the flexible bracket at FR 36, adjacent to the longitudinal beams on the left and right sides of the airplane, by accomplishing all applicable actions in accordance with paragraphs 3.A. through 3.E. of the Accomplishment Instructions of Airbus Service Bulletin A320-53-1029, Revision 01, dated April 29, 2002, constitutes terminating action for the actions required by paragraphs (g) and (h) of this AD.

(j) New Requirement of This AD: Inspection

For all airplanes, except for airplanes identified in paragraph (l) of this AD: At the applicable time specified in table 1 to paragraph (j) of this AD, do a special detailed inspection for cracking of the fastener holes on the pressure panel between FR 35 and FR 36 under the longitudinal beam, in accordance with the Accomplishment Instructions of Airbus Service Bulletin A320-53-1264, Revision 01, dated July 4, 2016.

BILLING CODE 4910-13-P

BILLING CODE 4910-13-C

(k) On-Condition Actions

(1) If, during any inspection required by paragraph (j) of this AD, no cracking is found, or cracking is found that is within the limits specified in Airbus Service Bulletin A320-53-1264, Revision 01, dated July 4, 2016: Before further flight, modify the pressure panel above the left and right longitudinal beams, including doing all applicable related investigative and corrective actions, in accordance with the Accomplishment Instructions of Airbus Service Bulletin A320-53-1240, Revision 01, dated April 4, 2016; or Service Bulletin A320-53-1263, Revision 01, dated February 29, 2016; as applicable. Do all related investigative and corrective actions before further flight. Where Airbus Service Bulletin A320-53-1240, Revision 01, dated April 4, 2016; and Service Bulletin A320-53-1263, Revision 01, dated February 29, 2016; specify to contact Airbus for appropriate action: Before further flight, accomplish the repair in accordance with the procedures specified in paragraph (o)(2) of this AD.

(2) If, during any inspection required by paragraph (j) of this AD, any cracking is found that exceeds the limits specified in Airbus Service Bulletin A320-53-1264, Revision 01, dated July 4, 2016: Do the actions specified in, and at the compliance times specified in, paragraphs (k)(2)(i) and (k)(2)(ii) of this AD.

(i) Before further flight, repair any cracking in accordance with the Accomplishment Instructions of Airbus Service Bulletin A320-53-1264, Revision 01, dated July 4, 2016. Where Airbus Service Bulletin A320-53-1264, Revision 01, dated July 4, 2016, specifies to contact Airbus for appropriate action, and specifies that action as “RC” (Required for Compliance): Before further flight, request approval of repair instructions using a method approved in accordance with the procedures specified in paragraph (o)(2) of this AD, and accomplish the repair accordingly within the compliance time specified in those instructions. If no compliance time is defined in the repair instructions, accomplish the repair before further flight.

(ii) At the times specified in paragraph (k)(2)(ii)(A) or (k)(2)(ii)(B) of this AD, as applicable: Report any findings of cracking that exceeds the limits specified in Airbus Service Bulletin A320-53-1264, Revision 01, dated July 4, 2016, to Airbus Customer Services through TechRequest on Airbus World (https://w3.airbus.com/) by selecting Engineering Domain and ATA 57-10.

(A) If the inspection was done on or after the effective date of this AD: Report within 90 days after that inspection.

(B) If the inspection was done before the effective date of this AD: Report within 90 days after the effective date of this AD.

(l) Actions for Certain Airplanes

For Model A319 and Model A320 series airplanes on which the actions specified in Airbus Service Bulletin A320-57-1193 have been embodied and the airplane has accumulated 33,000 flight cycles or 66,000 flight hours or more since the airplane's first flight on the effective date of this AD: Within 30 days after the effective date of this AD, contact the Manager, International Section, Transport Standards Branch FAA; or the EASA; or Airbus's EASA DOA for approved repair instructions and within the compliance time specified in those instructions, accomplish the repair accordingly. If no compliance time is defined in the repair instructions, accomplish the repair before the next flight.

(m) Terminating Action for Repetitive Inspections Required by Paragraph (g)(2) of This AD

(1) Modification of an airplane as specified in paragraph (m)(1)(i), (m)(1)(ii), or (m)(1)(iii) of this AD constitutes terminating action for the repetitive inspection required by paragraph (g)(2) of this AD for that airplane only.

(i) Modification of an airplane as required by paragraph (k)(1) of this AD.

(ii) Modification of an airplane prior to the effective date of this AD, in accordance with the Accomplishment Instructions of Airbus Service Bulletin A320-53-1240, dated March 19, 2015; or Airbus Service Bulletin A320-53-1263, dated March 19, 2015; as applicable.

(iii) Modification of an airplane using instructions obtained in accordance with the procedures specified in paragraph (o)(2) of this AD.

(2) Repair of an airplane as required by paragraph (k)(2) of this AD constitutes terminating action for the repetitive inspections required by paragraph (g)(2) of this AD for that airplane, unless specified otherwise in the repair instructions approved by the Manager, International Section, Transport Standards Branch, FAA; or the EASA; or Airbus's EASA DOA.

(n) Credit for Previous Actions

(1) This paragraph provides credit for actions required by paragraphs (g) and (h)(1) of this AD, if those actions were performed before March 15, 2004 (the effective date of AD 2004-03-07) using Airbus Service Bulletin A320-53-1030, dated January 5, 2000; or Airbus Service Bulletin A320-53-1029, dated January 5, 2000.

(2) This paragraph provides credit for actions required by paragraph (j) of this AD, if those actions were performed before the effective date of this AD using Airbus Service Bulletin A320-53-1264, dated March 19, 2015.

(3) This paragraph provides credit for actions required by paragraph (k)(1) of this AD, if those actions were performed before the effective date of this AD using Airbus Service Bulletin A320-53-1240, dated March 19, 2015; or Airbus Service Bulletin A320-53-1263, dated March 19, 2015; for that airplane only.

(o) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Branch, send it to the attention of the person identified paragraph (p)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus's EASA Design Organization Approval (DOA). If approved by the DOA, the approval must include the DOA-authorized signature.

(3) Required for Compliance (RC): Except as required by paragraph (k)(2)(i) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(4) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at 800 Independence Ave. SW., Washington, DC 20591, Attn: Information Collection Clearance Officer, AES-200.

(p) Related Information

(1) Refer to Mandatory Continuing Airworthiness Information (MCAI) EASA AD 2016-0206, dated October 13, 2016; corrected October 14, 2016; for related information. This MCAI may be found in the AD docket on the Internet at http://www.regulations.gov by searching for and locating Docket No. FAA-2017-0902.

(2) For more information about this AD, contact Sanjay Ralhan, Aerospace Engineer, International Section, Transport Standards Branch, FAA, 1601 Lind Avenue SW., Renton, WA 98057-3356; telephone 425-227-1405; fax 425-227-1149.

(3) For service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. You may view this service information at the FAA, Transport Standards Branch, 1601 Lind Avenue SW., Renton, WA. For information on the availability of this material at the FAA, call 425-227-1221.

Issued in Renton, Washington, on September 21, 2017.
Dionne Palermo,
Acting Director, System Oversight Branch, Aircraft Certification Service.

[FR Doc. 2017-21221 Filed 10-5-17; 8:45 am]

BILLING CODE 4910-13-P